DEPARTMENT OF DEFENSE

Office of the Secretary

[Docket ID DoD-2013-OS-0169]

Proposed Collection: Comment Request

AGENCY: Office of the Assistant Secretary of Defense for Research and Engineering, DoD.

ACTION: Notice.

In compliance with Section 3506(c)(2)(A) of the Paperwork Reduction Act of 1995, the Office of the Assistant Secretary of Defense for Research and Engineering announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 30, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Assistant Secretary of Defense (Research and Engineering), Basic Research Office, Mark Center 17C08, 4800 Mark Center Dr., Alexandria, VA 22311-1882, ATTN: Dr. Mark Herbst, or call 571-372-6547.

Title; Associated Form; and OMB Number: Title: Research Performance Progress Report (RPPR). OMB Control Number: 0704-TBD.

Needs and Uses: DoD research grants and cooperative agreements require recipients to periodically report on progress made towards achieving the objectives of their awards, and to document accomplishments and identify reasons for failure to meet planned objectives. This periodic reporting is required by section 32.51 of 32 CFR part 32, the DoD implementation of OMB Circular A-110. In April 2010, the Office of Management and Budget (OMB) and Office of Science and Technology (OSTP) issued a policy memorandum to the heads of Executive Departments and Agencies on usage of a new format—the Research Performance Progress Report (RPPR)—for doing interim progress reporting (e.g., annual reports during the award performance period, other than the final report that is due after the end of that period). The information collection requirement under this Notice is part of the Department's implementation of the RPPR, usage of which will consolidate interim progress reporting requirements of the multiple DoD offices that award research grants and cooperative agreements. DoD's implementation of the RPPR will:

• Make DoD research offices' requirements for grants and cooperative agreements more uniform with each other, as each office has historically specified its reporting requirements separately from other awarding offices.

• Make DoD offices' reporting requirements more common with those of other Federal agencies that make research awards, as each of them implements the guidance from OMB and OSTP.

• Enable broadening of RPPR usage to basic research contracts awarded by DoD offices, any of which may adopt the RPPR format for basic research contract progress reporting in lieu of their existing basic research contract reporting requirements. This will benefit entities having both research grant and contract awards, and is consistent with the joint OMB and OSTP policy memorandum.

Affected Public: Colleges and universities, nonprofit organizations, business and industry.

Annual Burden Hours: 72,000.

Number of Respondents: 2,000.

Responses per Respondent: 6.

Average Burden per Response: 6 hours.

Frequency: On occasion.

SUPPLEMENTARY INFORMATION:

Summary of Information Collection

The RPPR is a uniform format for use by federal agencies to obtain interim progress reports from recipients of research and research training grants and cooperative agreements. DoD intends to adopt the RPPR in lieu of existing progress reports for interim progress reporting on its research grants and cooperative agreements, and, for some DoD awarding offices, interim progress reporting on basic research contracts. Background information on the RPPR may be found at the National Science Foundation Web site http://www.nsf.gov/bfa/dias/policy/rppr/.

The RPPR consists of a required “Cover Page” and multiple optional components. For DoD, the “Cover Page” and “Accomplishments” component will be mandatory, however DoD awarding offices may require recipients to complete fields in one or more of the optional RPPR reporting components, as specified in the terms and conditions of their awards. DoD awarding offices will implement the RPPR through means such as web portals or fillable electronic forms.

Some DoD awarding offices have identified supplemental reporting elements for use within the Cover Page and other RPPR components in addition to the standard RPPR elements. DoD awarding offices will individually determine which optional RPPR fields will be requested from recipients. Therefore, not all of the DoD supplemental data elements will be required for all DoD awards using the RPPR. The following are the supplemental reporting elements that some DoD awarding offices may require for their interim reporting purposes, listed under the applicable RPPR reporting component.

Cover Page—Report Information

• Distribution Statement. A one-character code that indicates what type of limitations there are, if any, on the release of the report to the general public. Required by DoD Instruction 5230.24 “Distribution Statements on Technical Documents”, dated 23 August 2012.

Accomplishments

• Honors and Awards. A text field where the recipient describes any project-related honors and awards that were received during the reporting period. Project-related honors and awards are often used as markers or indicators of the significance of the research. They are a natural extension of the list of accomplishments that funded research may yield but should be reported separate from the actual research accomplishments.

• Regulatory Protocol and Activity Status. A text field for use in awards involving human and/or animal subjects to describe changes in research protocol or problems. This information is required by DoD Instruction 3216.01, Use of Animals in DoD Programs, or DoD Instruction 3216.02, Protection of Human Subjects and Adherence to Ethical Standards in DoD-Supported Research, so that changes can be reviewed and approved by a DoD Animal Care and Use Review Official or a DoD Human Research Protection Official.

Products—Publications: Journal Articles

• Keywords. A text field to provide keywords related to each publication. Awarding offices will provide public access to these publications by means such as posting on agency Web sites, providing links to other Web sites containing the publications, and/or providing these publications to the Defense Technical Information Center. The use of keywords for categorizing the content of the publication assists members of the public in searching for and finding the document, and relating it to the original research, which helps to ensure the best cross-discipline use of the science.

• Abstract. A text field that summarizes the journal article. Awarding offices will provide public access to these publications by means such as posting on agency Web sites, providing links to other Web sites containing the publications, and/or providing these publications to the Defense Technical Information Center. An abstract of the article helps members of the public find articles of interest, which helps to ensure the best cross-discipline use of the science.

• Distribution Statement. A text field that describes how distribution of the article should be restricted, if applicable. Required by DoD Instruction 5230.24 dated August 23, 2012.

• Submitted Date. A date field that indicates when the author submitted the article for publication, whether or not publication actually took place. Funded research yields products of many forms. Some are submitted for publication but may not be published. Unpublished articles may be available from the DoD awarding office. The submitted date provides a useful time context for the unpublished research when members of the public are searching for research on DoD public-facing web portals.

Products—Publications: Conference Papers and Presentations

• Publication Date. A date field indicating the publication date of the conference proceedings. If a conference is funded, the proceedings and resulting published records may have dates that are subsequent to the conference. For the fullest use of the funded research, the publication date provides timeframe context for application of the science in the future.

Intellectual Property—Inventions

The following three fields supplement the existing RPPR data fields on invention reporting and will be used only if the awarding office elects to use the RPPR for interim contract reporting. These fields support certain invention reporting requirements for contracts awarded under Federal Acquisition Regulation (FAR) Part 27, Patents, Data, and Copyrights, and Defense FAR Supplement Part 227, Patents, Data, and Copyrights. The RPPR may be used to collect these data fields in lieu of collecting them on other existing reporting mechanisms used for contracts, such as the DD Form 882, Report of Inventions and Subcontracts.

• Name of Employer. A text field indicating the name of the inventor's employer.

• Address of Employer. A text field indicating the address of the inventor's employer.

• Confirmatory Instrument. A Yes/No field indicating if a confirmatory instrument or assignment was forwarded to the DoD Contracting Officer.

Participants

• National Academy Member. A Yes/No field to indicate if a participant on the project is, or became, a National Academy of Science member during the reporting period. This data is used for statistical purposes to determine the number of National Academy members participating in the funded research.

Special Reporting Requirements

• Clinical trial(s) issues. A text field for use in awards involving clinical trials to describe any enrollment issues, retention problems, and adverse event/unanticipated problems involving risks to subjects or others, and actions or plans for mitigation. DoD Instruction 3216.02, Protection of Human Subjects and Adherence to Ethical Standards in DoD-Supported Research, requires that any changes to previously-approved clinical trials be reported for review by the DoD Human Research Protection Official.

The following two fields are for awards to Historically Black Colleges and Universities and Minority-Serving Institutions (HBCU/MI), to help evaluate the outcomes of HBCU/MI investments:

• Number of undergraduate and graduate student Science, Technology, Engineering and Mathematics (STEM) participants. A numeric field to indicate the number of student participants enrolled in STEM disciplines during the reporting period. This data will be useful in assessing the impact of DoD funding on STEM education at HBCU/MI.

• Number of student participants that received a STEM degree. A numeric field to indicate the number of student participants that received a STEM degree during the reporting period. This data will be useful in assessing the impact of DoD funding on STEM education at HBCU/MI.

Dated: July 26, 2013.
Aaron Siegel,
Alternate OSD Federal Register Liaison Officer, Department of Defense.

[FR Doc. 2013-18411 Filed 7-30-13; 8:45 am]

BILLING CODE 5001-06-P